DEPARTMENT OF LABOR

Occupational Safety and Health Administration

Maritime Advisory Committee for Occupational Safety and Health; Notice of Meeting

AGENCY: Occupational Safety and Health Administration (OSHA), Labor.

ACTION: Maritime Advisory Committee for Occupational Safety and Health; notice of meeting.

SUMMARY: The Maritime Advisory Committee for Occupational Safety and Health (“MACOSH” or “Committee”) was established to advise the Assistant Secretary of Labor for OSHA on issues relating to occupational safety and health in the maritime industries. The purpose of this Federal Register notice is to announce the MACOSH and workgroup meetings scheduled for March 18 to 20, 2008.

DATES: On Tuesday, March 18, 2008, the Shipyards, Longshoring, and Cranes and Falls workgroups will meet during the times listed below in the SUPPLEMENTARY INFORMATION section. On Wednesday, March 19, 2008, the Health, and Outreach and Safety Culture workgroups will meet during the times listed below in the SUPPLEMENTARY INFORMATION section. MACOSH will meet on Thursday, March 20, 2008, from 8:30 a.m. until approximately 5 p.m.

ADDRESSES: The Committee and workgroups will meet at the Wyndham Greenspoint Hotel, 12400 Greenspoint Drive, Houston, TX 77060. Mail comments, views, or statements in response to this notice to Vanessa L. Welch, Office of Maritime, OSHA, U.S. Department of Labor, Room N-3609, 200 Constitution Avenue, NW., Washington, DC 20210; phone (202) 693-2086; FAX: (202) 693-1663.

FOR FURTHER INFORMATION CONTACT: For general information about MACOSH and this meeting, contact: Joseph Daddura, Office of Maritime, OSHA, U.S. Department of Labor, Room N-3609, 200 Constitution Avenue, NW., Washington, DC 20210; phone: (202) 693-2067. Individuals with disabilities wishing to attend the meeting should contact Vanessa L. Welch at (202) 693-2086 no later than March 3, 2008, to obtain appropriate accommodations.

SUPPLEMENTARY INFORMATION: All MACOSH meetings and workgroup meetings are open to the public. All interested persons are invited to attend the MACOSH and workgroup meetings at the times and places listed above. Each workgroup may discuss one or more of the topics listed for that workgroup as time permits. The meeting times for each workgroup are approximate and subject to change without advance notice.

The Shipyards workgroup will meet on Tuesday, March 18, 2008, from 8 a.m. until 10:30 a.m. in Salon 2. Discussions may include spray paint standards and hot work on coatings, the shipbreaking guidance document, and electrical standards.

The Longshoring workgroup will meet on Tuesday, March 18, 2008, from 10:45 a.m. until 1:15 p.m. in Salon 2. Discussions may include the traffic safety in marine terminals guidance document, the roll-on roll-off cargo guidance document, the International Maritime Organization's initiative on cargo-lashing safety, and the flat-rack guidance document.

The Cranes and Falls workgroup will meet on Tuesday, March 18, 2008, from 2:15 p.m. until 3:15 p.m. in Salon 2. Discussions may include working over water from aerial work platforms, working under a suspended load, and the barge safety guidance document.

The Health workgroup will meet on Wednesday, March 19, 2008, from 8 a.m. until 10:30 a.m. in Salon 3. Discussions will include radiation exposure in marine terminals.

The Outreach and Safety Culture workgroup will meet on Wednesday, March 19, 2008, from 10:45 a.m. until 1:15 p.m. in Salon 3. Discussions may include leading indicators, substance abuse, and the longshoring and shipyard pocket guides.

MACOSH agenda: The agenda will include: an OSHA activities update, reports from each workgroup, and a review of the minutes from the previous meeting.

Public Participation: Written data, views, or comments for consideration by MACOSH on the various agenda items listed above should be submitted to Vanessa L. Welch at the address listed above. Submissions received by March 3, 2008, will be provided to Committee members and will be included in the record of the meeting. Requests to make oral presentations to the Committee may be granted as time permits. Anyone wishing to make an oral presentation to the Committee on any of the agenda items listed above should notify Vanessa L. Welch by March 3, 2008. The request should state the amount of time desired, the capacity in which the person will appear, and a brief outline of the content of the presentation.

Authority: Edwin G. Foulke, Jr., Assistant Secretary of Labor for Occupational Safety and Health, directed the preparation of this notice under the authority granted by Sections 6(b)(1) and 7(b) of the Occupational Safety and Health Act of 1970 (29 U.S.C. 655, 656), the Federal Advisory Committee Act (5 U.S.C. App. 2), Secretary of Labor's Order 5-2007 (72 FR 31159), and 29 CFR part 1912.

Signed at Washington, DC on the 8th of February, 2008.
Edwin G. Foulke, Jr.,
Assistant Secretary of Labor for Occupational Safety and Health.

[FR Doc. E8-2673 Filed 2-13-08; 8:45 am]

BILLING CODE 4510-26-P